DEPARTMENT OF DEFENSE

Department of the Army, Corps of Engineers

Intent to Prepare a Draft Environmental Impact Statement (DEIS) as Part of a Section 404 of the Clean Water Act, Permit Application Evaluation for the Proposed South Lawrence Trafficway/K-10 Highway Extension Project, in and near the City of Lawrence, in Douglas County, Kansas

AGENCY: U.S. Corps of Engineers, DOD.

ACTION: Notice of intent.

SUMMARY: The Kansas City District, U.S. Army Corps of Engineers (Corps) intends to prepare an Environmental Impact Statement (EIS) to address social, economic, and environmental impacts of the proposed South Lawrence Trafficway/K-10 Highway Extension Project located in Douglas County Kansas. The Corps is evaluating a permit application or the proposed work under the authority of Section 404 of the Clean Water Act (33 USC 1344). The EIS will be used as a basis for the permit decision and to ensure compliance with the National Environmental Policy Act (NEPA). The permit applicant is the Kansas Department of Transportation.

ADDRESSES: U.S. Army Corps of Engineers, Kansas City District, Operations Division, Regulatory Branch, OD-R, 700 Federal Building, 601 E. 12th Street, Kansas City, Missouri, 64106-2896.

FOR FURTHER INFORMATION CONTACT: Mr. Robert J. Smith, Regulatory Project Manager, (816) 983-3635 or mail to: robert.j.smith@usace.army.mil.

SUPPLEMENTARY INFORMATION: 1. The U.S. Army Corps of Engineers, Kansas City District will serve as the lead Federal agency and prepare a Draft Environmental Impact Statement (DEIS) on the proposed South Lawrence Trafficway/K-10 Highway Extension Project located in Douglas County, Kansas. The proposed highway project would extend from a western terminus at an interchange with U.S. 59 (Iowa Street), to an eastern terminus a new interchange with existing K-10, for an approximate distance of six miles. The Corps will be evaluating a permit application for the work under the authority of Section 404 of the Clean Water Act (33 USC 1344). The EIS will be used as a basis for the permit decision and to ensure compliance with the National Environmental Policy Act (NEPA). The permit applicant is the Kansas Department of Transportation (KDOT). A similar project proposed by Douglas County, Kansas, commonly known as the South Lawrence Trafficway, where the Federal Highway Administration (FHWA) was the lead Federal agency, had an EIS and supplemental EIS prepared and evaluated over approximately a ten-year period. The Final Supplemental EIS resulted in the No Build alternative being selected in the Record of Decision (ROD), dated July 5, 2000. The FHWA is not involved in the new proposed project. The new proposed project will involve KDOT as the sole applicant. Additional alternatives and a revised project purpose and need, will be part of the project.

2. The Corps study will evaluate the “No Action” alternative as well as a system traffic management alternative and various alignments under the highway construction alternative. Alternative alignments currently identified under the highway construction alternative included: (1) 31st Street, (2) 32nd Street, (3) 35th Street, (4) 38th Street and, (5) 42nd Street. All of the alignments under the highway construction alternative would involve the placement of fill material in the waters of the United States and would therefore require prior authorization, by the Corps, under Section 404 of the Clean Water Act. In addition, all but one of these alignments could potentially affect the Haskell Indian Nations University and/or the Baker Wetlands.

3. Scoping Process.

a. A formal public scoping meeting will be held for the project in Lawrence, Kansas on August 30, 2001. The exact time and location of the scoping meeting will be announced when the details are finalized. Additional information meetings and workshops have and will continue be held in the study area to engage the local and regional community in the decision-making process, to obtain public input and to keep the public informed. Coordination meetings will be held as needed with affect/concerned local, State, Tribal, and Federal government entities. These meetings and workshops, as well as any meetings which were previously held regarding this project, will serve as the collective scoping process for preparation of the DEIS. Draft documents forthcoming from the study will be distributed by the Corps to Federal, Tribal, State and local governments/agencies as well as interested members of the general public for review and comment. Public notices, meeting announcements and NEPA/Section 04 decision documents will also be available on the Kansas City District's Regulatory homepage at http://www.nwk.usace.army.mil/regulatory/regulatory.htm.

b. The DEIS will analyze the potential social, economic, and environmental impacts to the project are resulting from the proposed highway transportation project. Specifically, the following significant issues will be analyzed in depth in the DEIS: impacts to the aquatic ecosystem; impacts to cultural resources; Native American and Tribal interests; impact to fish and wildlife resources; impacts to flood control and floodplain values; impacts to transportation systems, impacts to recreation; environmental justice; secondary and cumulative impacts; and socioeconomoics.

c. Environmental consultation and review will be conducted in accordance with the requirements of the National Environmental Policy Act of 1969, as per regulations of the Council on Environmental Quality (Code of Federal Regulations parts 40 CFR 1500-1508), and other applicable laws, regulations, and guidelines.

4. It is anticipated that the DEIS will be made available for public review in January of 2002.

Luz D. Ortiz,
Army Federal Register Liaison Officer.

[FR Doc. 01-19759 Filed 8-6-01; 8:45 am]

BILLING CODE 3710-KN-M